DEPARTMENT OF AGRICULTURE

Agricultural Marketing Service

[Docket No. LS-05-09]

United States Standard for Livestock and Meat Marketing Claim, Grass (Forage) Fed Claim

AGENCY: Agricultural Marketing Service, USDA.

ACTION: Notice and request for comments.

SUMMARY: The Agricultural Marketing Service (AMS) is soliciting comments on a revised proposed voluntary standard for a grass (forage) fed marketing claim. This proposed standard incorporates revisions made as a result of comments received as a result of an earlier published proposed standard. A number of livestock producers make such claims in order to distinguish their products in the marketplace. Once a voluntary standard is established, livestock producers may request that a grass (forage) fed claim be verified by USDA. Verification of this claim will be accomplished through an audit of the production process by AMS.

DATES: Comments must be received on or before August 10, 2006.

ADDRESSES: Written comments, suggestions, and other input may be submitted to Martin E. O'Connor, Chief, Standardization Branch, Livestock and Seed Program, AMS, USDA, Room 2607-S, 1400 Independence Avenue, SW., Washington, DC 20250-0254. Comments may also be sent by facsimile to (202) 720-1112, by electronic mail to marketingclaim@usda.gov, or via the Internet at http://www.regulations.gov. Comments should refer to Docket No. LS-05-09. All comments received will be made available for public inspection at the above physical address during regular business hours (8 a.m.-4:30 p.m.) and will be posted on the Internet at http://www.ams.usda.gov/lsg/stand/claim.htm. A copy of this proposed voluntary United States Standards for Livestock and Meat Marketing Claim, Grass (Forage) Fed Claim, is available through the above physical address or by accessing the Web site at http://www.ams.usda.gov/lsg/stand/st-pubs.htm.

FOR FURTHER INFORMATION CONTACT: Martin E. O'Connor, Chief, Standardization Branch, at (202) 720-4486.

SUPPLEMENTARY INFORMATION: Section 203(c) of the Agricultural Marketing Act of 1946, as amended (7 U.S.C. 1622), directs and authorizes the Secretary of Agriculture “To develop and improve standards of quality, condition, quantity, grade, and packaging, and recommend and demonstrate such standards in order to encourage uniformity and consistency in commercial practices.” USDA is committed to carrying out this authority in a manner that facilitates the marketing of agricultural commodities. One way of achieving this objective is through the development and maintenance of voluntary standards by AMS.

AMS is proposing this voluntary United States Standard for Livestock and Meat Marketing Claim, Grass (Forage) Fed Claim, in accordance with procedures that are contained in part 36 of Title 7 of the Code of Federal Regulations (7 CFR part 36).

Paperwork Reduction Act

In accordance with the Paperwork Reduction Act of 1995 (PRA; 44 U.S.C. 3501 et seq.), the information collection and recordkeeping requirements for the services associated with the grass (forage) fed marketing claim is approved under Office of Management and Budget (OMB) Control No. 0581-0124, which expires August 31, 2008.

Background

Individuals and companies often highlight production and marketing practices in advertisements and promotions to distinguish their products in the marketplace. Since the late 1970s, livestock and meat producers (individuals and companies) have requested the voluntary services of USDA to verify or certify specific practices to increase the value of their products. One such production practice is the rearing of livestock on grasslands or forage products only.

Since 1978, the Livestock and Seed (LS) Program, through the Meat Grading and Certification Branch, has provided certification, through direct product examination, for a number of producer claims related to livestock and/or carcass characteristics. The validity of such claims was enhanced since the product was “USDA Certified.” Since 1996, the LS Program, through the ARC Branch, has offered a verification service (http://processverified.usda.gov/) to substantiate claims that cannot be determined by direct examination of marketed product. The USDA Process Verified Program provides suppliers of agricultural products or services the opportunity to distinguish specific activities involved in the production and processing of their agricultural products and to assure customers of their ability to provide consistent quality products or services. This is accomplished by documenting the quality management program and having the manufacturing or service delivery processes verified through independent, third party audits. The USDA Process Verified Program allows suppliers to make marketing claims—such as feeding practices or other raising and processing claims—and label and market their products as “USDA Process Verified.”

Product labels that include the grass (forage) fed marketing claim must be submitted to the Food Safety and Inspection Service (FSIS), Labeling and Consumer Protection Staff (LCPS), for evaluation prior to use. LCPS is USDA's regulatory authority on domestic and imported meat, poultry, and egg product labeling, standards, and ingredients. The LS Program has worked closely with LCPS to develop the proposed voluntary grass (forage) fed marketing claim standard. Products or processes that do not meet the minimum requirements will not be recognized as USDA Certified or USDA Process Verified by AMS. The proposed standard for a grass (forage) fed marketing claim will be part of the voluntary USDA grade standards used in conjunction with USDA Process Verified program.

Proposed Standard

As multiple organizations began to seek USDA certification or verification for the same or similar production practices, AMS determined it would be beneficial to establish minimum standards for common production and marketing claims. These standards will be instrumental in facilitating communication, establishing a common trade language, and enhancing understanding among producers and processors and their customers. Past experience indicates standards sort a highly diverse population into more homogeneous groups and when standards are uniformly applied, they provide a valuable marketing tool.

AMS develops standards for marketing and production claims based on LS Program experience with USDA Certified and USDA Process Verified programs, research into standard practices and procedures, and requests from the livestock and meat industries. In addition, the LS Program obtains input from a number of individual experts in government, industry, and academia while drafting the proposed standards and their corresponding thresholds. The LS Program proposed the U.S. Standards for Livestock and Meat Marketing Claims, as a notice and request for comments, in the December 30, 2002, Federal Register (67 FR 79552). This notice and request for comments covers only the grass (forage) fed claim. Other claims that appeared in the 2002 notice will be made final or modified and re-proposed as appropriate in separate documents published in the Federal Register. In the 2002 notice, the grass (forage) fed claim standard was proposed such that grass, green or range pasture, or forage shall be 80% or more of the primary energy source throughout the animal's life cycle. AMS conducted a listening session on February 11, 2004 in Washington, DC to discuss the grass (forage) fed claim proposed in the 2002 notice. Participants as well as the issues raised were the same as or very similar to those reflected in the comments received concerning the December 30, 2002 notice. As a result of the public comments received and public listening session conducted, AMS determined significant modification to the proposed grass (forage) fed standard was needed.

Grass (Forage) Fed Claim Comments and Responses

By the close of the comment period for the December 30, 2002 notice, AMS received 369 comments concerning the grass (forage) fed claim from consumers, academia, trade and professional associations, national organic associations, consumer advocacy associations, meat product industries, and livestock producers. Only three comments received were in general support of the standard as originally proposed. Summaries of issues raised by commenters and AMS's responses follow.

Grass (Forage) Definition and Percentage

Comment: AMS received numerous comments suggesting the percentage of grass and forage in the standard be greater than the 80 percent originally proposed. Most comments suggested the standard be 100 percent grass or forage. Other comments recommended various levels of 90, 95, 98 and 99 percent grass and forage as the primary energy source. While other commenters suggested that animals be on 100 percent forage diet with the exception of the winter season when free-standing forage is unavailable, at which time the animals can be fed 85 percent forage derived diet.

Commenters were not only strongly concerned about the percent of grass and forage but also requested further clarification of the forage definition. Some comments received requested a grass feeding category be added. A few comments stated only grass and no stockpiled or stored forages should be permitted for a grass (forage) fed labeling claim.

Agency Response: In the listening session and the extensive comments received, emphasis was placed on the diverse grass feeding regimes across the nation. For example, in the South grass is more readily available year round verses out west. Accordingly, due to the diverse range and climate conditions throughout the United States, it is not practical to limit grass and forage consumption to only non-harvested grasses or forages and restrict the use of stockpiled or stored forages. The discussion of range conditions coupled with written comments has led AMS to develop a more detailed definition of forage and specific requirements for the grass (forage) fed claim. These details and specific requirements are set forth in this proposed standard. AMS determined the most appropriate way to integrate the grass (forage) fed claim into practical management systems and still maximize or keep the purest intent of grass and/or forage based diets was by changing the standard requirements to read that grass and/or forage shall be 99 percent or higher of the energy source for the lifetime of the animal. This will permit very limited supplementation due to inadvertent exposure to non-forage feedstuffs and/or adverse environmental or physical conditions to ensure the animal's well being at all times. Some comments indicated a need to distinguish grass (forage) fed and grass-finished categories; however, while participating in the grass (forage) fed claim listening session, the participants concluded the addition of a grass-finished category would only confuse consumers and lessen the meaning of a grass (forage) fed claim. The participants indicated the addition of another category to the claim would cause confusion in the wholesale and retail marketplace.

Purpose and the Consumers' Understanding of the Claim

Comment: Many commenters requested the standard provide consumers with the confidence that they are purchasing what is represented on the label. One commenter stated that the grass (forage) fed claim should be meaningful and represent the product the consumer thinks they are buying—not some obscure definition. Other comments received requested that it be established whether the claim's purpose is to market the raising practices or to market the resulting meat characteristics of the grass (forage) fed animal. Some commenters discussed that they either raise or eat grass (forage) fed meat because grass (forage) fed livestock results in meat that has desirable levels of Conjugated Linoleic Acid (CLA) and omega-3 fatty acids. AMS received numerous general comments that opposed the definition of grass as 80% of the primary energy source as they indicated it would undermine the integrity of grass (forage) fed animal production. The majority of the commenters demanded further clarification of the definition so that the claim meets their production expectations i.e., grass (forage) fed, free-range, and antibiotic-free meat). A few comments received also suggested restrictions be established so that grass (forage) fed animals cannot be fed in confinement and one commenter stated the standard should acknowledge the overall positive environmental impact.

Agency Response: AMS's standards and specifications should provide consumers and the industry confidence that the product consumed is actually produced in ways the label states. Additionally, AMS determined that all animals which meet the minimum requirements for grass (forage) feeding should be eligible for the grass (forage) fed claim and additional requirements or characteristics beyond energy source should not be incorporated in the standard (i.e., resulting meat characteristics such as level of CLA or omega-3 fatty acids or production practices). It will be up to the producer to make additional distinctions in their meat products beyond the grass (forage) fed claim and to educate their target consumers. While there is a synergistic nature to grass feeding and free range conditions, AMS has determined it is preferable to keep the terminology separate and develop two distinct standards for both grass (forage) fed and free range claims, particularly in view of possible distinctions in their energy sources. Granted, most grass (forage) fed livestock will also qualify as free range livestock (not fed in confinement); however, not all free range livestock will receive their entire energy source from grass or forage. For similiar reasons, the potential environmental impact of grass feeding was not included as an element in the grass (forage) claim standard.

Elimination of the Claim

Comment: Twenty nine comments suggested or referenced the elimination of the standard as written. Commenters argued that the claim as originally proposed was not acceptable, too lax and misleading. They also stated the standard would undermine the integrity of grass (forage) fed beef and provide a loophole for grain-fed animals to be marketed as grass (forage) fed.

Agency Response: A substantial amount of support has been shown throughout the livestock and meat industry for the creation of a grass (forage) fed marketing claim. Taking into account this support, AMS has determined that eliminating this claim would not be a viable option. However, AMS also determined significant modifications to the proposed grass (forage) fed standard were needed, as discussed previously in this notice.

Accordingly, AMS proposes the following voluntary United States Standard for Livestock and Meat Marketing Claim, Grass (Forage) Fed Claim, in this notice and seeks further public comment by interested parties.

United States Standards for Livestock and Meat Marketing Claims Relating to Live Animal Production, Grass (Forage) Fed Claim

Background: For the purpose of this claim, forage is any edible herbaceous plant material, other than separated grain, that can be grazed or harvested for feeding. This claim applies to ruminant animals whose sole energy/feed source throughout their life span is derived from grass (annual and perennial), forbs (legumes, brassicas), browse, forage, or stockpiled forages. Hay, haylage, baleage, silage, ensilage and post-harvest crop residue without separated grain may also be included in the feeding regime. Consumption of seeds naturally attached to herbage, forage and browse or grain in the immature stage is acceptable. Grass and/or forage must be 99 percent or higher of the energy source consumed by the animal during its lifetime, with the exception of milk consumed prior to weaning. Very limited supplementation (i.e., less than one percent of the total energy consumed during the animal's lifetime) due to inadvertent exposure to non-forage feedstuffs or to ensure the animal's well being at all times during adverse environmental/physical conditions is permissible. Additionally, routine mineral and vitamin supplementation is permissible.

Claim and Standard

Grass (Forage) Fed—Grass (annual and perennial), forbs (legumes, brassicas), browse, forage, or stockpiled forages, and post-harvest crop residue without separated grain shall be at least 99 percent of the energy source for the lifetime of the ruminant specie, with the exception of milk consumed prior to weaning. Routine mineral and vitamin supplementation may also be included in the feeding regimen. Grass (forage) fed claims will be verified, as provided in 7 CFR part 62, by a feeding protocol that confirms a grass or forage-based diet that is 99 percent or higher.

Authority: 7 U.S.C. 1621-1627.

Dated: May 9, 2006.
Lloyd C. Day,
Administrator, Agricultural Marketing Service.

[FR Doc. E6-7276 Filed 5-11-06; 8:45 am]

BILLING CODE 3410-02-P